DEPARTMENT OF TRANSPORTATION

Federal Railroad Administration

Solicitation of Applications and Notice of Funding Availability for the Capital Assistance to States—Intercity Passenger Rail Service Program

AGENCY: Federal Railroad Administration (FRA), Department of Transportation (DOT).

ACTION: Notice of funding availability; solicitation for applications.

SUMMARY: Under this Notice, the FRA encourages interested State departments of transportation to submit applications for grants to fund capital improvements and planning activities necessary to support improved or new intercity passenger rail service.

DATES: FRA will begin accepting grant applications on Monday, March 18, 2008. Applications may be submitted until the earlier of Wednesday, September 30, 2009, or the date on which all available funds will have been committed under this program. The last-mentioned date will be announced in the Federal Register.

ADDRESSES: Applications must be submitted electronically to http://www.grants.gov (“Grants.Gov”). Grants.Gov allows organizations electronically to find and apply for competitive grant opportunities from all Federal grant-making agencies. Any State wishing to submit an application pursuant to this notice should immediately initiate the process of registering with Grants.Gov at http://www.grants.gov. Please confirm all Grants.Gov submissions by e-mailing paxrail@dot.gov.

For application materials that an applicant is unable to submit via Grants.Gov (such as oversized engineering drawings), applicants may submit an original and two (2) copies to the Federal Railroad Administration at the following address: Federal Railroad Administration, Attention: Peter Schwartz, Office of Railroad Development (RDV-11), Mail Stop #20, 1200 New Jersey Avenue, SE., Washington, DC 20590.

Due to delays caused by enhanced screening of mail delivered via the U.S. Postal Service, applicants are encouraged to use other means to assure timely receipt of materials.

FOR FURTHER INFORMATION CONTACT: Peter Schwartz, Office of Railroad Development (RDV-11), Federal Railroad Administration, 1200 New Jersey Avenue, SE., Washington, DC 20590. Phone: (202) 493-6360; Fax: (202) 493-6333, or Desmond Brown, Grants Officer, Office of Acquisition and Grants Services (RAD-30), Federal Railroad Administration, 1200 New Jersey Avenue, SE., Washington, DC 20590. Phone: (202) 493-6152; Fax: (202) 493-6171.

SUPPLEMENTARY INFORMATION: The Capital Assistance to States—Intercity Passenger Rail Service Program (Catalog of Federal Domestic Assistance (CFDA) Program Number 20.317) will be supported with $30,000,000 of Federal funds provided to FRA as part of the Transportation, Housing and Urban Development, and Related Agencies Appropriations Act, 2008 (Division K of Pub. L. 110-161 (December 26, 2007)). Funds provided under this program may constitute no more than 50 percent of the total cost of a selected project, with the remaining cost funded from other sources. FRA anticipates awarding grants to multiple eligible participants. Eligible projects include capital improvements (fixed facilities and rolling stock) necessary to support improved or new intercity passenger rail services, and planning activities that lead directly to the development of a passenger rail corridor investment plan. FRA anticipates that no further public notice will be made with respect to selecting grantees under this program.

Purpose: In 2002, then-Secretary of Transportation, Norman Y. Mineta, announced a number of principles to guide the future of intercity passenger rail in the United States. One of these principles was to “establish a long-term partnership between States and the Federal Government to support intercity passenger rail.” In furtherance of that principle, the President's Fiscal Year (FY) 2008 Budget proposed, and the Congress enacted, a program that would increase the States' role in intercity passenger rail development by establishing Federal-State partnerships for intercity passenger rail investment along the model of those that currently exist for other modes of transportation. This program makes $30,000,000 in Federal funding available directly to States through grants to fund up to 50 percent of the cost of capital investments and planning activities necessary to achieve tangible improvements to, or institute new, intercity passenger rail service. Examples of such improvements include (but are not strictly limited to) the purchase of passenger rolling stock, the improvement of existing track to allow for higher maximum speeds, the addition or lengthening of passing tracks to increase capacity, the improvement of interlockings to increase capacity and reliability, and the improvement of signaling systems to increase capacity and maximum speeds, and improve safety.

Authority: The authority for the Program can be found in the Transportation, Housing and Urban Development, and Related Agencies Appropriations Act, 2008 (Division K of Pub. L. 110-161 (December 26, 2007)).

Funding: The Transportation, Housing and Urban Development, and Related Agencies Appropriations Act, 2008, provides $30,000,000, and directs FRA to award one or more grants covering up to 50 percent of the cost of capital investments (and limited planning activities) necessary to support improved intercity passenger rail services. The funding provided under these grants will be made available to grantees on a reimbursement basis. It is anticipated that the available funding could support the projects proposed by multiple applicants. FRA may choose to award a grant or grants within the available funds in any amount. Funding made available through grants provided under this program, together with funding from other sources that is committed by a grantee as part of a grant agreement, must be sufficient to complete the funded project and achieve the anticipated improvement to intercity passenger rail service.

Schedule for Capital Grant Program: FRA will begin accepting grant applications on Monday, March 18, 2008. Applications must be submitted by Wednesday, September 30, 2009 or the date (to be announced) on which all available funds will have been committed. Due to the limited funding available under this program: (1) Applicants are encouraged to submit their applications at the earliest date practicable in order to maximize the consideration of their application in the competition; and (2) FRA may request that an applicant submit a revised application reflecting a refined scope of work and budget. FRA anticipates making the first award(s) pursuant to this notice during FY 2008.

Eligible Participants: The department of transportation of any State (including, for the purposes of this program, the District of Columbia) is eligible to apply for funding under this Notice, provided that the applicant State includes intercity passenger rail service as an integral part of statewide transportation planning as required under section 135 of title 23, United States Code. If the proposed project is in more than one State, a single State department of transportation should apply on behalf of all the participating States.

Eligible Projects: Eligible projects must be for the primary benefit of intercity passenger rail service. Only new projects will be eligible; projects that have either commenced before the time of award or have been completed will not be considered. Proposed projects must be specifically included in the applicant State's Statewide Transportation Improvement Plan at the time of application to be eligible. Matching funding must be in the form of new financial commitments toward the proposed project by the applicant and/or its partners. Expenditures which occurred prior to the passage into law of the Transportation, Housing and Urban Development, and Related Agencies Appropriations Act, 2008, and expenditures on unrelated projects will not be considered.

Eligible Planning Projects: Congress has allowed up to ten percent ($3,000,000) of the funding available under the program to be used for planning activities that lead directly to the development of a passenger rail corridor investment plan. Only proposed planning projects that incorporate the methodologies set forth in FRA's publication, entitled “Railroad Corridor Transportation Plans: A Guidance Manual,” available at http://www.fra.dot.gov/Downloads/RRdev/corridor_planning.pdf, will be given priority for consideration, subject to the Selection Criteria outlined below.

Selection Criteria: The following will be considered to be positive selection factors in evaluating applications for grants under this program:

1. The ability of the proposed project to result directly in appreciable benefits to intercity passenger rail services, including, but not limited to, improved safety (particularly at railroad-highway at-grade crossings), and improved intercity passenger rail reliability (particularly involving a commitment by host freight railroads to an enforceable on-time performance standard of 80 percent or greater).

2. The extent to which, following the completion of the proposed project, the total, fully allocated operating expenses of the intercity passenger rail service benefiting from the project are projected to be offset by the total of (a) revenues attributable to the service, and (b) committed state financial support, with little or no need for Federal operating support.

3. The extent to which the proposed project involves a commitment by States or railroads of financial resources to improve the safety of highway/rail grade crossings over which the passenger service operates.

4. The relative emphasis of the proposed project on the implementation of tangible capital improvements, rather than planning.

5. The ability of the proposed project to result in reduced and reliable line-haul and/or total travel times for intercity rail passengers, increased intercity passenger service frequencies, and/or enhanced service quality for intercity train passengers.

6. The extent to which the project promotes seamless intermodal connections between passenger rail service and other modes of transportation, such as mass transit and commercial air service.

7. The extent to which the proposed project has stand-alone value as a transportation improvement, and the extent to which the benefits resulting from the project are not contingent upon future additional Federal funding, or on additional capital investments other than those to which the applicant or the applicant's partners have committed at the time of the submission of the grant application.

8. For proposed grant-funded projects involving improvements or alterations to, or use of, assets owned or used by other entities (such as freight or commuter railroads), the extent to which the applicant has completed written agreements (covering issues including, but not limited to, project design, project implementation, and assurance and/or enforcement of achievement of anticipated project benefits) between the applicant and the other affected entities.

9. The existence and quality of a comprehensive, realistic transportation plan (a) covering the rail line(s), facilities, and services employed or affected by the benefiting project and (b) reflecting the improved operation of the benefiting service.

10. The progress toward completing any environmental documentation or clearance required for the proposed project under the National Environmental Policy Act, the National Historic Preservation Act, section 4(f) of the DOT Act, the Clean Water Act, or other applicable Federal or State laws and regulations (federal environmental and historic preservation review requirements will apply to all projects funded through the Capital Assistance to States—Intercity Passenger Rail Service Program).

11. The projected lapse in time between a grant award and the initiation and completion of, and realization of the benefits resulting from, the proposed project, and the veracity of such projections.

12. The extent to which the State commits funds or contributions as a match for the funds potentially available under this program for the project of a value in excess of 50 percent of the total cost of the project, and the extent to which such funds are from non-Federal sources. For purposes of this criterion, all monetary and other resources of the National Railroad Passenger Corporation (Amtrak) are considered to be Federal sources.

13. The extent to which matching funds or contributions committed by the State would be contributions from private or other non-State entities, such as host freight railroads and local governments, and the extent to which the commitment by the host freight railroad of financial resources is commensurate with the benefit expected to their operations.

Requirements for Grant Applications: The following points describe the minimum content which will be required in grant applications. These requirements may be satisfied through a narrative statement submitted by the applicant, supported by spreadsheet documents, tables, drawings, and other materials, as appropriate. Each grant application will:

1. Designate a point of contact for the applicant and provide their name and contact information, including phone number, mailing address and e-mail address.

2. Include a complete Standard Form 424, “Application for Federal Assistance”, and, as applicable, Standard Form 424B, “Assurances—Non-Construction Programs” or Standard Form 424D, “Assurances—Construction Programs.” Also include signed copies of FRA's Additional Assurances and Certifications, available at http://www.fra.dot.gov/downloads/admin/assurancesandcertifications.pdf.

3. Identify and provide background information on the intercity passenger rail services that the proposed project is intended primarily to benefit. The required content under this heading will differ according to the purpose of the project:

a. Grant applications related to projects that are targeted toward improving existing intercity passenger rail services. Describe in detail the current state of the benefiting services. Include descriptions of the geographic markets served, the current operating characteristics of the services (including timetables, consist diagrams, and measures of service reliability), and the financial characteristics of the service (including profit and loss statements and descriptions of past and/or current state financial support for operations and capital investments). Describe the current annual passenger utilization of the service (train ridership; passenger-mile volumes; and train boardings plus alightings at each station), any existing contractual arrangements for the operation of the service, the characteristics of other rail service (e.g. commuter and freight) currently operating on the route, and the extent to which the benefiting service falls within the geographic scope of one or more Federally-designated high-speed rail corridors. In addition, describe and compare the existing transportation facilities and service offerings (including travel times, frequencies, prices or perceived costs, reliability, and service quality) afforded by other public and private modes of transportation, as well as intercity passenger rail, in the geographic market area.

b. For grant applications related to projects that are targeted toward the introduction of new intercity passenger rail service. Describe the characteristics, including trip time and frequencies, of any past intercity passenger rail service that has served the same general geographic markets as the proposed service. Describe the characteristics of other rail service (e.g. commuter and freight) currently operating on the route. Describe the geographic market to be served by the new service, the current level of completion and nature of the planning for the new service, the extent to which the benefiting service falls within the geographic scope of one or more Federally-designated high-speed rail corridors, and the existing transportation facilities and service offerings (including travel times, frequencies, prices or perceived costs, reliability, and service quality) afforded by other public and private modes of transportation in the geographic market area.

4. Define the scope of work for the proposed project and the anticipated project schedule. Describe the proposed project's physical location (as applicable), and the extent to which the proposed project consists of planning and/or implementation of capital improvements. Include any drawings, plans, or schematics that have been prepared relating to the proposed project.

5. Present a detailed budget for the proposed project. At a minimum, the budget should separate total cost of the project into the following categories: (1) Administrative and legal expenses; (2) Land, structures, rights-of-way, and appraisals; (3) Relocation expenses and payments; (4) Architectural and engineering fees; (5) Project inspection fees; (6) Site work; (7) Demolition and removal; (8) Construction labor, supervision, and management; (9) Materials, by type (e.g. ties, rail, signals, switches, rolling stock; (10) Equipment; (11) Miscellaneous; and (12) Contingencies. For each cost category, specify (as defined under OMB Circular A-87, “Cost Principles for State, Local and Indian Tribal Governments”) the amount of costs that are allowable for participation, and the amount of non-allowable costs. Also specify the amount of allowable costs in each category that are proposed to be funded under this program, and the amount to be funded by non-program matching funds.

6. Describe the operating changes to the target intercity passenger rail services that are anticipated to result from the project, and assess the operational feasibility of the proposed project. The required level of detail for the descriptions of anticipated operating changes and the feasibility assessment will depend upon the nature of the project, as follows:

a. Projects intended to improve the reliability of existing intercity passenger rail services, but which are not intended to affect the trip times, service frequencies, or passenger capacity of the benefiting services. Describe, in quantitative terms, the delays that would be incurred by the benefiting intercity passenger rail service were the proposed project not to be completed. Describe, in quantitative terms, the delays that would be avoided as a result of the completion of the proposed project. Address proposed means for ensuring and/or enforcing that the anticipated reliability improvements will be realized following the completion of the proposed project.

b. Projects, particularly those involving the purchase of rolling stock, intended to increase capacity on existing intercity passenger rail services, but which are not intended to affect the trip times or service frequencies of the benefiting services. Describe evidence of current under-capacity of the benefiting services, and the extent to which such under-capacity conditions are projected to change in the future. Include results of modeling performed using train performance calculators demonstrating that current schedules may be maintained following the introduction of the proposed new equipment. Address the adequacy of existing infrastructure (e.g. station platforms, maintenance facilities, passing tracks, and wyes) to accommodate any proposed increased consist lengths. Present evidence that the proposed new equipment meets the clearance requirements of the infrastructure over which it is intended to operate, or provide details of what infrastructure modifications will be required to achieve the physical clearances required for the operation of the proposed new equipment. Present evidence that existing or anticipated future station access limitations (e.g. lack of transit access, shortage of parking), will not create a capacity constraint that would limit the utility of additional on-train capacity.

c. Projects which, either by design or otherwise as a direct consequence thereof, would affect trip times and frequencies of existing intercity passenger rail services, or which are related to the introduction of new intercity passenger rail service. Describe the operating plan intended for the benefiting service following completion of the grant-funded project. Include operating details, such as proposed timetables, equipment consists, track charts of the proposed route, descriptions of maintenance of equipment and maintenance of way arrangements, station access plans, and quantitative projections of operating reliability. Include the outputs, such as stringline (time and distance) diagrams, of train performance calculator modeling and dispatching modeling undertaken as part of the preparation of the proposed operating plan. These outputs shall include all other rail services—intercity, freight, and commuter—that will share facilities with, or otherwise impact or be impacted by, the services that will benefit from the improvements proposed in the application. Such coverage of other services shall address both current conditions and projected service levels in the time horizon year adopted in the application. Address the operating feasibility of the proposed service, and summarize any identified risks associated with the operating plan. Describe any contractual arrangements that will be in place for the operation of the service. Include a description of the methodology employed in developing the operating plan. Operating plans developed in accordance with FRA's publication, entitled “Railroad Corridor Transportation Plans: A Guidance Manual,” available at http://www.fra.dot.gov/Downloads/RRdev/corridor_planning.pdf, will be considered to fulfill these requirements. Address proposed means for ensuring and/or enforcing that the anticipated operating plan will be implemented with a high degree of reliability following the completion of the proposed project.

7. Describe any additional planning activities or capital improvements, beyond those project elements included in the grant proposal, that would be required in order to realize the operating benefits intended to be generated by the proposed project. Indicate the extent to which funding from other sources has been committed to and/or work has commenced on these additional requirements.

8. Describe proposed project implementation and project management provisions. Include descriptions of expected arrangements for project contracting, contract oversight, change-order management, risk management, and conformance to Federal requirements for project progress reporting.

9. Present a financial plan reflecting the anticipated financial performance of the benefiting service following completion of the grant-funded project. Include a detailed projected profit and loss statement, along with forecasts for revenues, ridership, passenger-miles, and expenses generated by the proposed service. Demonstrate the extent to which the benefiting service will not require Federal financial assistance to support its operation following the completion of the grant-funded project.

10. Describe the benefits forecasted to result from the proposed project, specifically as they relate to improvements in safety (particularly at railroad-highway grade crossings) and increases in intercity passenger rail reliability (particularly to the extent the proposed project would result in a commitment by host freight railroads to an enforceable on-time performance standard of 80 percent or greater).

11. Describe the extent to which the proposed project will result in reduced line-haul and/or total travel times for intercity rail passengers, increased intercity passenger service frequencies, and/or enhanced service quality for intercity train passengers.

12. Describe the source(s) and amount(s) of matching funding to be committed to the project by the applicant.

13. Describe the anticipated ownership arrangement for the project following completion.

14. Describe any written agreements (or progress in negotiations) between the applicant and other entities regarding proposed grant-funded projects involving improvements or alterations to, or use of, assets owned or used by other entities.

15. Describe progress toward completing any environmental documentation or clearance required for the proposed project under the National Environmental Policy Act, the National Historic Preservation Act, section 4(f) of the DOT Act, the Clean Water Act, or other applicable Federal or State laws.

16. Describe the degree to which intercity passenger rail is included as an integral part of the applicant State's statewide transportation planning, as required under section 135 of title 23, United States Code, and present evidence that the specific proposed project is included or mentioned in the applicant State's Statewide Transportation Improvement Plan.

Format: Excluding spreadsheets, drawings, and tables, the narrative statement for grant applications may not exceed fifty pages in length. With the exclusion of oversized engineering drawings (which may be submitted in hard copy to the FRA at the address above), all application materials should be submitted as attachments through Grants.Gov.

Spreadsheets consisting of budget or financial information should be submitted via Grants.Gov as Microsoft Excel (or compatible) documents.

Issued in Washington, DC, on February 12, 2008.
Mark E. Yachmetz,
Associate Administrator for Railroad Development.

[FR Doc. E8-3018 Filed 2-15-08; 8:45 am]

BILLING CODE 4910-06-P